DEPARTMENT OF JUSTICE

Notice of Lodging of Consent Decree Under the Comprehensive Environmental Response, Compensation, and Liability Act of 1980, as Amended (“CERCLA”)

Pursuant to 28 CFR 50.7, notice is hereby given that on August 27, 2004, a proposed consent decree in United States v. Becton Dickinson AcuteCare Holdings, Inc., et al., Civil No. 04-1888 (CC), was lodged with the United States District Court for the District of Puerto Rico.

In this action, the United States sought reimbursement of past response costs, civil penalties, and injunctive relief under sections 106 and 107 of CERCLA, against Becton Dickinson AcuteCare Holdings, Inc., Browning-Ferris Industries of Puerto Rico, Inc., General Electric Co., the Municipality of Juncos, Puerto Rico, the Puerto Rico Land Administration, and the Puerto Rico Development and Housing Improvement Administration, in connection with the former Juncos Municipal Landfill Site in Juncos, Puerto Rico. This consent decree resolves the liability of the three corporate defendants. These three defendants either arranged for disposal or transported for disposal hazardous substances at the Site. This settlement will require that these three defendants pay a total of $3,350,000, plus accrued interest, as reimbursement of past costs incurred by the United States at the Site through May 2003. Half of the total amount is to be paid at the time of lodging of the Consent Decree, and the reminder is to be paid within one year thereof.

The Department of Justice will receive for a period of thirty (30) days from the date of this publication comments relating to the consent decree. Comments should be addressed to the Assistant Attorney General, Environment and National Resources Division, PO Box 7611, U.S. Department of Justice, Washington, DC 20044-7611, and should refer to United States v. Becton Dickinson AcuteCare Holdings, Inc., et al., D.J. Ref. #90-11-2-717A.

The consent decree may be examined at the Office of the United States Attorney, Torre Chardon, Suite 1201, 350 Carlos Chardon Avenue, San Juan, Puerto Rico, and at U.S. EPA Region 2, Office of Regional Counsel, 290 Broadway, New York, New York. During the public comment period, the consent decree may also be examined on the following Department of Justice Web site: http://www.usdoj.gov/enrd/open.html. A copy of the consent decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.25 (25 cents per page reproduction cost) payable to the U.S. Treasury.

Ronald Gluck,
Assistant Section Chief, Environmental Enforcement Section, Environment and Natural Resources Division.

[FR Doc. 04-21308 Filed 9-22-04; 8:45 am]

BILLING CODE 4410-15-M